Proclamation 7294 of April 14, 2000

National Recall Round-Up Day, 2000

By the President of the United States of America

A Proclamation

Every year, the Consumer Product Safety Commission (CPSC) researches the safety of more than 15,000 types of products used by the American people and secures the recall of defective or potentially dangerous products. Last year alone, the CPSC negotiated almost 300 recalls involving more than 74 million individual consumer products that presented a significant risk to the public. Despite these recalls and additional safety alerts issued by the CPSC, many consumers are still using products that may seriously injure or even kill them or their children, and people are still able to purchase these products at flea markets, secondhand stores, and garage or yard sales.

The CPSC estimates that some 29 million Americans will suffer injuries involving consumer products this year, and 22,000 will lose their lives. To reduce these tragic statistics, the CPSC is working to increase public awareness of recalled products and to ensure that such potentially hazardous products are removed from people's homes. As a vital part of this effort, the CPSC is conducting the fourth annual Recall Round-Up Campaign this year in partnership with the U.S. Postal Service. With the cooperation and active involvement of State and local officials, health and safety organizations, the media, and community groups, this innovative public safety campaign will sponsor activities in communities across the Nation to publicize the products that have been recalled, to encourage Americans to repair, return, or destroy any recalled products that may still be in their homes or businesses, and to urge them to stay alert and informed about such products when purchasing secondhand items.

This year's Recall Round-Up will focus on a number of previously recalled consumer products that pose a threat to children in particular, including certain infant car seats; swimming pool dive sticks that can cause impalement injuries to young children; television carts that can tip over; tubular metal cribs that can entrap children; and old cribs, hair dryers, and children's drawstring jackets that fail to meet the most current safety standards. Last year's campaign succeeded in reaching some 55 million consumers; this year, with the assistance of the U.S. Postal Service, the CPSC hopes to reach millions more—especially parents and child care providers—with these lifesaving messages.

NOW, THEREFORE, I, WILLIAM J. CLINTON, President of the United States of America, by virtue of the authority vested in me by the Constitution and laws of the United States, do hereby proclaim April 18, 2000, as National Recall Round-Up Day. I call upon all Americans to observe this day by working with safety, health, and consumer agencies and other appropriate community organizations to organize and conduct local round-ups of dangerous and defective consumer products and to warn parents, child care providers, and the general public about the hazards of using recalled consumer products.

IN WITNESS WHEREOF, I have hereunto set my hand this fourteenth day of April, in the year of our Lord two thousand, and of the Independence of the United States of America the two hundred and twenty-fourth.

wj

[FR Doc. 00-10005

Filed 4-19-00; 8:45 am]

Billing code 3195-01-P